FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Lavinstar Logistics, Inc., 485-B Route 1, Suite 310, Iselin, NJ 08830. Officer: Martin J. Aranha, President (Qualifying Individual).

Non-Vessel Operating Common Carrier and Ocean Freight Forwarder Transportation Intermediary Applicants

Royal Pacific Shipping Co., 58 Leslie Street, Newark, NJ 07108. Office: Roydel Nutty, Vice President (Qualifying Individual).

Radiant Global Logistics, Inc. dba Airgroup Seafreight, 1227 120th Ave., NE., Bellevue, WA 98005. Officer: Michael Von Loesch, Vice President (Qualifying Individual).

Dated: February 13, 2009.
Karen V. Gregory,
Secretary.

[FR Doc. E9-3519 Filed 2-18-09; 8:45 am]

BILLING CODE 6730-01-P